SECURITIES AND EXCHANGE COMMISSION

[File No. 500-1]

In the Matter of Nudg Media Inc.; Order of Suspension of Trading

October 1, 2014.

It appears to the Securities and Exchange Commission that there is a lack of current and accurate information concerning the securities of Nudg Media Inc. (“Nudg”) because of questions regarding the accuracy of assertions by Nudg and by others, in press releases to investors concerning, among other things: the company's assets and business plan. Nudg Media Inc. is a Nevada corporation with its principal place of business located in Carson City, Nevada. Its stock is quoted on OTC Link, operated by OTC Markets Group Inc., under the ticker: NDDG.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on October 1, 2014 through 11:59 p.m. EDT, on October 14, 2014.

By the Commission.
Kevin M. O'Neill,
Deputy Secretary.

[FR Doc. 2014-23747 Filed 10-1-14; 4:15 pm]

BILLING CODE 8011-01-P